MEDICARE PAYMENT ADVISORY COMMISSION

Commission Meeting

AGENCY: Medicare Payment Advisory Commission.

ACTION: Notice of meeting.

SUMMARY: The Commission will hold its next public meeting on Thursday, September 13, 2001, and Friday, September 14, 2001, at the Ronald Reagan Building, International Trade Center, 1300 Pennsylvania Avenue, NW., Washington, DC. The meeting is tentatively scheduled to begin at 9:30 a.m. on September 13, and at 8:30 a.m. on September 14.

On Thursday, September 13, 2001 MedPAC will conduct a hearing on regulatory complexity in Medicare. Witnesses will include: Bruce Bradley, General Motors; William Roper, University of North Carolina; Robert Berenson, Academy of Health Services Research and Health Policy; Ron Pollack, Families, USA; David Lipschutz, Center for Health Care Rights; Douglas Wood, Mayo Clinic and Foundation; Rebecca Brewer, Colleton Medical Center; Steve Dominquez, Tenet Healthcare; John Markus, Fresenius Medical Care North America; Arthur Rubin, MDxL; James Regan, Denver Medical Society; Robert Margolis, HealthCare Partners; Mara Benner, Gentiva Health Services; Keith Weikel, ManorCare-HCR; Rita Hostak, Sunrise Medical; Richard Jones, United Healthcare; Maureen McLaughlin, Group Health Cooperative; William Haggett, Independence Blue Cross.

On Friday, September 14, 2001 the following topics will be discussed: the new rule on payment for hospital outpatient department services; payment for outpatient hospital care in cancer hospitals; managed care issues in Medicare; Medicare consumer coalitions; quality improvement standards for health plans and providers; complexity of the Medicare program and regulatory burden; blood safety requirements: impact on hospital costs and PPS policy options; and the revised estimate of the payment update for physician services.

Agendas will be mailed on September 5, 2001. The final agenda will be available on the Commission's website (www.MedPAC.gov)

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 01-22349 Filed 9-5-01; 8:45 am]

BILLING CODE 6820-BW-M